DEPARTMENT OF HEALTH AND HUMAN SERVICES

National Institutes of Health

National Institute on Aging; Amended Notice of Meeting

Notice is hereby given of a change in the meeting of the National Institute on Aging Special Emphasis Panel, April 06, 2015, 11:00 a.m. to April 06, 2015, 1:00 p.m., National Institute on Aging, Gateway Building, 7201 Wisconsin Avenue, Suite 2C212, Bethesda, MD 20892 which was published in the Federal Register on February 9, 2015, 80 FR 7003.

The meeting notice is amended to change the date of the meeting from April 6, 2015 to March 30, 2015. The meeting is closed to the public.

Dated: February 10, 2015.
Melanie J. Gray,
Program Analyst, Office of Federal Advisory Committee Policy.

[FR Doc. 2015-03091 Filed 2-13-15; 8:45 am]

BILLING CODE 4140-01-P